DEPARTMENT OF AGRICULTURE

National Agricultural Statistics Service

Notice of Intent To Seek Reinstatement of an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intention of the National Agricultural Statistics Service (NASS) to seek approval to revise and reinstate an information collection, the Census of Aquaculture.

DATES: Comments on this notice must be received by July 11, 2005 to be assured of consideration.

ADDRESSES: Comments may be sent to Ginny McBride, NASS Clearance Officer, U.S. Department of Agriculture, Room 5336 South Building, 1400 Independence Avenue SW., Washington, DC 20250-2024 or to gmcbride@nass.usda.gov or faxed to (202) 720-6396.

FOR FURTHER INFORMATION CONTACT: Carol House, Associate Administrator, National Agricultural Statistics Service, U.S. Department of Agriculture, (202) 720-4333.

SUPPLEMENTARY INFORMATION: Title: Census of Aquaculture.

OMB Control Number: 0535-0237.

Type of Request: Intent to revise and reinstate an information collection.

Abstract: The 2005 Census of Aquaculture will encompass all operations in each State that produced and sold $1,000 or more of aquaculture or aquaculture products during 2005. The census will provide a comprehensive inventory of aquaculture farms and their production: Data on the number of farms, acreage, method of production, production and sales by aquaculture species, and sales outlets. Census data are used by farmers, their representatives, the government, and many other groups concerned with the aquaculture industry to evaluate new programs, disburse Federal funds, analyze market trends, and help determine the economic impact aquaculture has on the economy. The aquaculture census provides the only source of dependable, comparable data by State. Response to the census is mandatory. The National Agricultural Statistics Service will use the information collected only for statistical purposes and will publish the data only as tabulated totals.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 30 minutes per positive response, 10 minutes per screen-out, and 2 minutes per refusal.

Respondents: Farms.

Estimated Number of Respondents: 9,000.

Estimated Total Annual Burden on Respondents: 4,500 hours.

Copies of this information collection and related instructions can be obtained without charge from Ginny McBride, NASS Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, March 24, 2005.
Carol House,
Associate Administrator.

[FR Doc. 05-8984 Filed 5-2-05; 2:35 pm]

BILLING CODE 3410-20-P